DEPARTMENT OF TRANSPORTATION

National Highway Traffic Safety Administration

[Docket NHTSA 2001-8677; Notice 4]

Public Meeting on Early Warning Reporting Procedures

AGENCY: National Highway Traffic Safety Administration (NHTSA), Office of Defects Investigation (ODI), DOT.

ACTION: Notice of public meeting.

SUMMARY: This notice announces a public meeting to discuss the manner in which Early Warning Reporting (EWR) information required to be submitted to ODI by motor vehicle and motor vehicle equipment manufacturers will be submitted to, and retained by, the agency. On July 3, 2002, NHTSA issued a final rule implementing the EWR provisions of the Transportation Recall Enhancement, Accountability, and Documentation (TREAD) Act. At this meeting, NHTSA will discuss the methods by which EWR information must be submitted, security for that information, acknowledgement of receipt of that information, and other technical aspects associated with those submissions. The agency will also respond to questions about those issues from the public.

DATES: The Agency's public meeting relating to EWR data submission will be held on Wednesday, September 24, 2002, beginning at 10 a.m. in Room 2230 of the United States Department of Transportation, 400 Seventh St., SW (NASSIF Building), Washington, DC 20590.

FOR FURTHER INFORMATION CONTACT: Julia Goldson at (202) 366-9944 or at jgoldson@nhtsa.dot.gov.

SUPPLEMENTARY INFORMATION: Transcripts of this meeting will be available for public inspection in the DOT Docket Room in Washington, DC, within four weeks after the meeting. The DOT Docket Room is open to the public from 10 a.m. to 5 p.m. The transcript may also be accessed electronically at http://dms.dot.gov, at docket NHTSA 2001-8677; Notice 4.

We recommend that all visitors arrive at least 45 minutes early to sign in and pass through security checkpoints. Visitors to the building should enter through the Southwest Lobby to sign in and be escorted upstairs.

NHTSA will provide auxiliary aids to participants, as necessary. Any person desiring such auxiliary aids (e.g., sign-language interpreter, telecommunications devices for deaf persons (TDDs), readers, taped texts, brailed materials, or large print materials and/or a magnifying device), should contact Julia Goldson at (202) 366-9944, by COB Monday, September 16, 2002.

Issued: August 22, 2002.
Kenneth N. Weinstein,
Associate Administrator for Safety Assurance.

[FR Doc. 02-22081 Filed 8-28-02; 8:45 am]

BILLING CODE 4910-59-P